DEPARTMENT OF TRANSPORTATION

Federal Aviation Administration

14 CFR Part 39

[Docket No. FAA-2010-1037; Directorate Identifier 2010-NM-202-AD; Amendment 39-16481; AD 2010-22-02]

RIN 2120-AA64

Airworthiness Directives; Bombardier, Inc. Model CL-600-2B19 (Regional Jet Series 100 & 440) Airplanes

AGENCY: Federal Aviation Administration (FAA), Department of Transportation (DOT).

ACTION: Final rule; request for comments.

SUMMARY: We are adopting a new airworthiness directive (AD) for the products listed above. This AD results from mandatory continuing airworthiness information (MCAI) originated by an aviation authority of another country to identify and correct an unsafe condition on an aviation product. The MCAI describes the unsafe condition as:

Seven cases of on-ground hydraulic accumulator screw cap/end cap failure have been experienced on CL-600-2B19 aeroplanes, resulting in the loss of the associated hydraulic system and high-energy impact damage to adjacent systems and structure. * * *

* * * * *

A detailed analysis of the calculated line of trajectory of a failed screw cap/end cap for each of the accumulators has been conducted, resulting in the identification of several areas where systems and/or structural components could potentially be damaged. Although all of the failures to date have occurred on the ground, an in-flight failure affecting such components could potentially have an adverse effect on the controllability of the aeroplane.

* * * * *

This AD requires actions that are intended to address the unsafe condition described in the MCAI.

DATES: This AD becomes effective November 4, 2010.

The Director of the Federal Register approved the incorporation by reference of certain publications listed in the AD as of November 4, 2010.

We must receive comments on this AD by December 6, 2010.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC, between 9 a.m. and 5 p.m., Monday through Friday, except Federal holidays.

Examining the AD Docket

You may examine the AD docket on the Internet at http://www.regulations.gov; or in person at the Docket Operations office between 9 a.m. and 5 p.m., Monday through Friday, except Federal holidays. The AD docket contains this AD, the regulatory evaluation, any comments received, and other information. The street address for the Docket Operations office (telephone (800) 647-5527) is in the ADDRESSES section. Comments will be available in the AD docket shortly after receipt.

FOR FURTHER INFORMATION CONTACT: Christopher Alfano, Aerospace Engineer, Airframe and Mechanical Systems Branch, ANE-171, FAA, New York Aircraft Certification Office (ACO), 1600 Stewart Avenue, Suite 410, Westbury, New York 11590; telephone (516) 228-7340; fax (516) 794-5531.

SUPPLEMENTARY INFORMATION:

Discussion

Transport Canada Civil Aviation (TCCA), which is the aviation authority for Canada, has issued Canadian Airworthiness Directive CF-2010-24, dated August 3, 2010 (referred to after this as “the MCAI”), to correct an unsafe condition for the specified products. The MCAI states:

Seven cases of on-ground hydraulic accumulator screw cap/end cap failure have been experienced on CL-600-2B19 aeroplanes, resulting in the loss of the associated hydraulic system and high-energy impact damage to adjacent systems and structure. The lowest number of flight cycles accumulated at the time of failure, to date, has been 6,991 flight cycles.

The part numbers (P/N) of the accumulators currently installed on CL-600-2B19 aeroplanes are 601R75138-1 (08-60163-001 or 08-60163-002) [Hydraulic System No. 1, Hydraulic System No. 2, Inboard Brake and Outboard Brake accumulators] and 601R75138-3 (08-60164-001 or 08-60164-002) [Hydraulic System No. 3 accumulator].

A detailed analysis of the calculated line of trajectory of a failed screw cap/end cap for each of the accumulators has been conducted, resulting in the identification of several areas where systems and/or structural components could potentially be damaged. Although all of the failures to date have occurred on the ground, an in-flight failure affecting such components could potentially have an adverse effect on the controllability of the aeroplane.

This directive gives instructions to amend the Airplane Flight Manual (AFM), remove two accumulators (Hydraulic System No. 2 and No. 3) from the aeroplane and conduct repetitive ultrasonic inspections [for cracks] of the Hydraulic System No. 1, Inboard Brake and Outboard Brake accumulators that are not identified by the letter “T” after the serial number (S/N) on the identification plate for cracks until they are replaced by new accumulators P/N 601R75139-1 (11093-4).

Required actions also include deactivating the hydraulic system No. 3 accumulator. You may obtain further information by examining the MCAI in the AD docket.

Relevant Service Information

Bombardier has issued Canadair Regional Jet Temporary Revision (TR) RJ/186-1, dated August 24, 2010, to the Limitations section, Normal Procedures section, and Abnormal Procedures section of the Canadair Regional Jet Airplane Flight Manual (AFM), CSP A-012. Canadair Regional Jet TR RJ/186-1, dated August 24, 2010, advises the flightcrew that for certain airplanes the hydraulic 3B pump is selected “on” instead of “auto” for all phases of flight.

Bombardier has issued the service information in the following table:

Bombardier Service Bulletins
Document | Revision | Date
Bombardier Alert Service Bulletin A601R-29-029, including Appendix A, dated October 18, 2007 | B | May 11, 2010.
Bombardier Alert Service Bulletin A601R-29-031 | A | March 26, 2009.
Bombardier Alert Service Bulletin A601R-32-103, including Appendix A, Revision A, dated October 18, 2007 | D | May 11, 2010.
Bombardier Service Bulletin 601R-29-032 | A | January 26, 2010.
Bombardier Service Bulletin 601R-29-033, including Appendix A, dated May 5, 2009 | A | May 11, 2010.
Bombardier Service Bulletin 601R-29-035 | Original | May 11, 2010.
Bombardier Service Bulletin 601R-32-106, including Appendix A | A | May 11, 2010.
Bombardier Service Bulletin 601R-32-107 | A | June 17, 2010.

The actions described in this service information as outlined in the “Discussion” section above, are intended to correct the unsafe condition identified in the MCAI.

FAA's Determination and Requirements of This AD

This product has been approved by the aviation authority of another country, and is approved for operation in the United States. Pursuant to our bilateral agreement with the State of Design Authority, we have been notified of the unsafe condition described in the MCAI and service information referenced above. We are issuing this AD because we evaluated all pertinent information and determined the unsafe condition exists and is likely to exist or develop on other products of the same type design.

Differences Between the AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow FAA policies. Any such differences are highlighted in a NOTE within the AD.

Explanation of Affected Accumulators

The actions specified in the MCAI apply only to Tactair accumulators. Certain actions in this AD apply to all accumulators. This is a result of the unsafe condition, which is due to the location of the accumulators and potential damage resulting from the release of the accumulator screw cap/end cap. This is the reason for the deactivation of the hydraulic system No. 3 accumulator and removal of the hydraulic system No. 2 accumulator.

Interim Action

This AD does not require the removal of the hydraulic system No. 3 accumulator, or replacement of the hydraulic system No. 1, inboard brake, and outboard brake accumulators, in Part IV and Part VII of the Canadian Airworthiness Directive CF-2010-24, dated August 3, 2010. The planned compliance time for the removal of the hydraulic system No. 3 accumulator, or replacement of the hydraulic system No. 1, inboard brake, and outboard brake accumulators, in Part IV and Part VII of the Canadian Airworthiness Directive CF-2010-24, dated August 3, 2010, would allow enough time to provide notice and opportunity for prior public comment on the merits of those actions. Therefore, we are considering further rulemaking to address this issue.

FAA's Determination of the Effective Date

An unsafe condition exists that requires the immediate adoption of this AD. The FAA has found that the risk to the flying public justifies waiving notice and comment prior to adoption of this rule because seven cases of on-ground hydraulic accumulator screw cap/end cap failure have been experienced on Model CL-600-2B19 airplanes, resulting in the loss of the associated hydraulic system and high-energy impact damage to adjacent systems and structure. The lowest number of flight cycles accumulated at the time of failure, to date, has been 6,991 flight cycles.

A detailed analysis of the calculated line of trajectory of a failed screw cap/end cap for each of the accumulators has been conducted, resulting in the identification of several areas where systems and/or structural components could potentially be damaged, fuel lines and wires included. Although all of the failures to date have occurred on the ground, an in-flight failure affecting such components could consequently reduce the controllability of the airplane. Therefore, we determined that notice and opportunity for public comment before issuing this AD are impracticable and that good cause exists for making this amendment effective in fewer than 30 days.

Comments Invited

This AD is a final rule that involves requirements affecting flight safety, and we did not precede it by notice and opportunity for public comment. We invite you to send any written relevant data, views, or arguments about this AD. Send your comments to an address listed under the ADDRESSES section. Include “Docket No. FAA-2010-1037; Directorate Identifier 2010-NM-202-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2010-22-02 Bombardier, Inc.: Amendment 39-16481. Docket No. FAA-2010-1037; Directorate Identifier 2010-NM-202-AD.

Effective Date

(a) This airworthiness directive (AD) becomes effective November 4, 2010.

Affected ADs

(b) None.

Applicability

(c) This AD applies to Bombardier, Inc. Model CL-600-2B19 (Regional Jet Series 100 & 440) airplanes, certificated in any category, serial numbers 7003 and subsequent.

Subject

(d) Air Transport Association (ATA) of America Code 29 and 32: Hydraulic Power and Landing Gear, respectively.

Reason

(e) The mandatory continued airworthiness information (MCAI) states:

Seven cases of on-ground hydraulic accumulator screw cap/end cap failure have been experienced on CL-600-2B19 aeroplanes, resulting in the loss of the associated hydraulic system and high-energy impact damage to adjacent systems and structure. * * *

* * * * *

A detailed analysis of the calculated line of trajectory of a failed screw cap/end cap for each of the accumulators has been conducted, resulting in the identification of several areas where systems and/or structural components could potentially be damaged. Although all of the failures to date have occurred on the ground, an in-flight failure affecting such components could potentially have an adverse effect on the controllability of the aeroplane.

* * * * *

Compliance

(f) You are responsible for having the actions required by this AD performed within the compliance times specified, unless the actions have already been done.

Airplane Flight Manual (AFM) Revision

(g) Within 30 days after the effective date of this AD, revise the Limitations section, Normal Procedures section, and Abnormal Procedures section of the AFM by incorporating Canadair Regional Jet Temporary Revision (TR) RJ/186-1, dated August 24, 2010, into the applicable section of Canadair Regional Jet AFM, CSP A-012. Thereafter, except as provided by paragraph(s) of this AD, no alternative actions specified in Canadair Regional Jet TR RJ/186-1, dated August 24, 2010, may be approved.

Note 1: The actions required by paragraph (g) of this AD may be done by inserting a copy of Canadair Regional Jet TR RJ/186-1, dated August 24, 2010, into the applicable section of the Canadair Regional Jet AFM, CSP A-012. When the TR has been included in the general revisions of the AFM, the general revisions may be inserted into the AFM, and the TR removed, provided that the relevant information in the general revision is identical to that in Canadair Regional Jet TR RJ/186-1, dated August 24, 2010.

Deactivation of the Hydraulic System No. 3 Accumulator

(h) Within 250 flight cycles after the effective date of this AD, deactivate the hydraulic system No. 3 accumulator, in accordance with Part A of the Accomplishment Instructions of Bombardier Alert Service Bulletin A601R-29-031, Revision A, dated March 26, 2009. Doing the removal of the hydraulic system No. 3 accumulator in paragraph (j) of this AD is an alternate method of compliance with the requirements of this paragraph. The actions in this paragraph apply to all accumulators in hydraulic system No. 3.

Removal of the Hydraulic System No. 2 Accumulator

(i) Within 500 flight cycles after the effective date of this AD, remove the hydraulic system No. 2 accumulator, in accordance with the Accomplishment Instructions of Bombardier Service Bulletin 601R-29-032, Revision A, dated January 26, 2010. The actions in this paragraph apply to all accumulators in hydraulic system No. 2.

Optional Removal of the Hydraulic System No. 3 Accumulator

(j) Removal of the hydraulic system No. 3 accumulator, in accordance with Part B of the Accomplishment Instructions of Bombardier Alert Service Bulletin A601R-29-031, Revision A, dated March 26, 2009, is an alternate method of compliance with the requirements of paragraph (h) of this AD.

Initial and Repetitive Ultrasonic Inspection of Hydraulic System No. 1, Inboard Brake, and Outboard Brake Accumulators

(k) For hydraulic system No. 1, inboard brake, and outboard brake accumulators having P/N 601R75138-1 (08-60163-001 or 08-60163-002): At the applicable compliance times specified in paragraph (l) of this AD, do the inspections required by paragraphs (k)(1) and (k)(2) of this AD. Repeat the inspections for each accumulator having P/N 601R75138-1 (08-60163-001 or 08-60163-002) thereafter at intervals not to exceed 500 flight cycles until the replacement specified in this paragraph is done or the replacement specified in paragraph (m) of this AD is done. If any crack is found, before further flight, replace the accumulator with a new accumulator having part number (P/N) 601R75138-1 (08-60163-001 or 08-60163-002) and having the letter “T” after the serial number on the identification plate, in accordance with the Accomplishment Instructions of the applicable service bulletin identified in Table 1 or Table 2 of this AD.

(1) Do an ultrasonic inspection for cracks on each accumulator, in accordance with Part B of the Accomplishment Instructions of the applicable service bulletin identified in Table 1 of this AD.

Table 1—Bombardier Service Information for Accumulator Inspection
Accumulator | Document | Revision | Date
Hydraulic System No. 1 | Bombardier Alert Service Bulletin A601R-29-029, including Appendix A, dated October 18, 2007 | B | May 11, 2010.
Inboard and Outboard Brake | Bombardier Alert Service Bulletin A601R-32-103, including Appendix A, Revision A, dated October 18, 2007 | D | May 11, 2010.

(2) Do an ultrasonic inspection for cracks on the screw cap, in accordance with the Accomplishment Instructions of the applicable service bulletin identified in Table 2 of this AD.

Table 2—Bombardier Service Information for Screw Cap Inspection
Accumulator | Document | Revision | Date
Hydraulic System No. 1 | Bombardier Service Bulletin 601R-29-033, including Appendix A, dated May 5, 2009 | A | May 11, 2010.
Inboard and Outboard Brake | Bombardier Service Bulletin 601R-32-106, including Appendix A | A | May 11, 2010.

(l) For hydraulic system No. 1, inboard brake, and outboard brake accumulators having P/N 601R75138-1 (08-60163-001 or 08-60163-002): Do the inspections specified in paragraph (k) of this AD at the applicable time in paragraph (l)(1), (l)(2), and (l)(3) of this AD.

(1) For any accumulator not having the letter “T” after the serial number on the identification plate and with more than 4,500 flight cycles on the accumulator as of the effective date of this AD: Inspect within 500 flight cycles after the effective date of this AD.

(2) For any accumulator not having the letter “T” after the serial number on the identification plate and with 4,500 flight cycles or less on the accumulator as of the effective date of this AD: Inspect prior to the accumulation of 5,000 flight cycles on the accumulator.

(3) If it is not possible to determine the flight cycles accumulated for any accumulator not having the letter “T” after the serial number on the identification plate: Inspect within 500 flight cycles after the effective date of this AD.

Note 2: For any accumulator having P/N 601R75138-1 (08-60163-001 or 08-60163-002) and the letter “T” after the serial number on the identification plate, or if the accumulator P/N is not listed in paragraph (k) of this AD, the inspection specified in paragraph (k) of this AD is not required.

Optional Replacement of the Hydraulic System No. 1, Inboard Brake, and Outboard Brake Accumulators

(m) Replacing any hydraulic system No. 1, inboard brake, or outboard brake accumulator having P/N 601R75138-1 (08-60163-001 or 08-60163-002), with a new accumulator having P/N 601R75139-1 (11093-4), in accordance with the Accomplishment Instructions of the applicable service bulletin identified in Table 3 of this AD, is a terminating action for the inspections in paragraph (k) of this AD for that accumulator.

Table 3—Bombardier Service Information for Accumulator Replacement
Accumulator | Document | Revision | Date
Hydraulic System No. 1 | Bombardier Service Bulletin 601R-29-035 | Original | May 11, 2010.
Inboard and Outboard Brake | Bombardier Service Bulletin 601R-32-107 | A | June 17, 2010.

Credit for Actions Accomplished in Accordance With Previous Service Information

(n) Deactivating the hydraulic system No. 3 accumulator before the effective date of this AD in accordance with Part A of the Accomplishment Instructions of Bombardier Alert Service Bulletin A601R-29-031, dated December 23, 2008, is acceptable for compliance with the requirements of paragraph (h) of this AD.

(o) Removing the hydraulic system No. 2 accumulator in accordance with the Accomplishment Instructions of Bombardier Service Bulletin 601R-29-032, dated November 12, 2009, before the effective date of this AD is acceptable for compliance with the requirements of paragraph (i) of this AD.

(p) Removing the hydraulic system No. 3 accumulator in accordance with Part B of the Accomplishment Instructions of Bombardier Service Bulletin A601R-29-031, dated December 23, 2008, before the effective date of this AD is acceptable for compliance with the requirements of paragraph (j) of this AD.

(q) An ultrasonic inspection for cracks done before the effective date of this AD in accordance with Part B of the Accomplishment Instructions of the applicable service bulletin identified in Table 4 of this AD, or the Accomplishment Instructions of the applicable service bulletin identified in Table 5 of this AD, is acceptable for compliance with the corresponding ultrasonic inspection required by paragraph (k) of this AD.

Table 4—Bombardier Credit Service Information for Accumulator Inspection
Document | Revision | Date
Bombardier Alert Service Bulletin A601R-29-029 | Original | October 18, 2007.
Bombardier Alert Service Bulletin A601R-29-029 | A | November 12, 2009.
Bombardier Alert Service Bulletin A601R-32-103 | Original | November 21, 2006.
Bombardier Alert Service Bulletin A601R-32-103 | A | March 7, 2007.
Bombardier Alert Service Bulletin A601R-32-103 | B | October 18, 2007.
Bombardier Alert Service Bulletin A601R-32-103 | C | February 26, 2009.

Table 5—Bombardier Credit Service Information for Screw Cap Inspection
Document | Revision | Date
Bombardier Service Bulletin 601R-29-033 | Original | May 5, 2009.
Bombardier Service Bulletin 601R-32-106 | Original | May 5, 2009.

(r) Replacing any hydraulic system No. 1, inboard brake, or outboard brake accumulator before the effective date of this AD in accordance with the Accomplishment Instructions of Bombardier Service Bulletin 601R-32-107, dated May 11, 2010, is acceptable for compliance with the corresponding requirements of paragraph (m) of this AD.

FAA AD Differences

Note 3: This AD differs from the MCAI and/or service information as follows:

(1) This AD does not require the removal of the hydraulic system No. 3 accumulator, or replacement of the hydraulic system No. 1, inboard brake, and outboard brake accumulators, in Part IV and Part VII of the Canadian Airworthiness Directive CF-2010-24, dated August 3, 2010.

(2) The actions specified in Canadian Airworthiness Directive CF-2010-24, dated August 3, 2010, apply only to Tactair accumulators. The actions required by paragraphs (h) and (i) of this AD apply to all accumulators in the positions specified in paragraphs (h) and (i) of this AD.

Other FAA AD Provisions

(s) The following provisions also apply to this AD:

(1) Alternative Methods of Compliance (AMOCs): The Manager, New York Aircraft Certification Office (ACO), ANE-170, FAA, has the authority to approve AMOCs for this AD, if requested using the procedures found in 14 CFR 39.19. Send information to ATTN: Program Manager, Continuing Operational Safety, FAA, New York ACO, 1600 Stewart Avenue, Suite 410, Westbury, New York, 11590; telephone 516-228-7300; fax 516-794-5531. Before using any approved AMOC on any airplane to which the AMOC applies, notify your principal maintenance inspector (PMI) or principal avionics inspector (PAI), as appropriate, or lacking a principal inspector, your local Flight Standards District Office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(t) Refer to MCAI Canadian Airworthiness Directive CF-2010-24, dated August 3, 2010; Canadair Regional Jet Temporary Revision RJ/186-1, dated August 24, 2010; and the service bulletins listed in Table 6 of this AD; for related information.

Table 6—Bombardier Service Information
Document | Revision | Date
Bombardier Alert Service Bulletin A601R-29-029 | B | May 11, 2010.
Bombardier Alert Service Bulletin A601R-29-031 | A | March 26, 2009.
Bombardier Alert Service Bulletin A601R-32-103 | D | May 11, 2010.
Bombardier Service Bulletin 601R-29-032 | A | January 26, 2010.
Bombardier Service Bulletin 601R-29-033 | A | May 11, 2010.
Bombardier Service Bulletin 601R-29-035 | Original | May 11, 2010.
Bombardier Service Bulletin 601R-32-106 | A | May 11, 2010.
Bombardier Service Bulletin 601R-32-107 | A | June 17, 2010.

Material Incorporated by Reference

(u) You must use Canadair Regional Jet Temporary Revision RJ/186-1, dated August 24, 2010, to the Canadair Regional Jet Airplane Flight Manual, CSP A-012, and the service information identified in Table 7 of this AD to do the actions required by this AD, unless the AD specifies otherwise. If you accomplish the optional terminating actions specified in this AD, you must use the service information identified in Table 8 of this AD to perform those actions, unless the AD specifies otherwise.

Table 7—Material Incorporated By Reference for Actions Required in This AD
Document | Revision | Date
Bombardier Alert Service Bulletin A601R-29-029, including Appendix A, dated October 18, 2007 .* | B | May 11, 2010.
Bombardier Alert Service Bulletin A601R-29-031 | A | March 26, 2009.
Bombardier Alert Service Bulletin A601R-32-103, including Appendix A, Revision A, dated October 18, 2007.* | D | May 11, 2010.
Bombardier Service Bulletin 601R-29-032 | A | January 26, 2010.
Bombardier Service Bulletin 601R-29-033, including Appendix A, dated May 5, 2009 .* | A | May 11, 2010.
Bombardier Service Bulletin 601R-32-106, including Appendix A .* | A | May 11, 2010.
(* In Appendix A to these documents, the document number is shown only on page A1 of these appendices.)

Table 8—Material Incorporated by Reference for the Optional Actions in This AD
Document | Revision | Date
Bombardier Alert Service Bulletin A601R-29-031 | A | March 26, 2009.
Bombardier Service Bulletin 601R-29-035 | Original | May 11, 2010.
Bombardier Service Bulletin 601R-32-107 | A | June 17, 2010.

(1) The Director of the Federal Register approved the incorporation by reference of this service information under 5 U.S.C. 552(a) and 1 CFR part 51.

(2) For service information identified in this AD, contact Bombardier, Inc., 400 Côte-Vertu Road West, Dorval, Québec H4S 1Y9, Canada; telephone 514-855-5000; fax 514-855-7401; e-mail thd.crj@aero.bombardier.com; Internet http://www.bombardier.com.

(3) You may review copies of the service information at the FAA, Transport Airplane Directorate, 1601 Lind Avenue, SW., Renton, Washington. For information on the availability of this material at the FAA, call 425-227-1221.

(4) You may also review copies of the service information that is incorporated by reference at the National Archives and Records Administration (NARA). For information on the availability of this material at NARA, call 202-741-6030, or go to: http://www.archives.gov/federal_register/code_of_federal_regulations/ibr_locations.html.

Issued in Renton, Washington, on October 7, 2010.
Ali Bahrami,
Manager, Transport Airplane Directorate, Aircraft Certification Service.

[FR Doc. 2010-26225 Filed 10-19-10; 8:45 am]

BILLING CODE 4910-13-P